DEPARTMENT OF THE INTERIOR

Fish and Wildlife Service

[FWS-R4-ES-2015-N226; FXES11130400000EA-123-FF04EF1000]

Endangered and Threatened Wildlife and Plants; Availability of Proposed Low-Effect Habitat Conservation Plans, Brevard and Putnam Counties, FL

AGENCY: Fish and Wildlife Service, Interior.

ACTION: Notice of availability; request for comment/information.

SUMMARY: We, the Fish and Wildlife Service (Service), have received two applications for incidental take permits (ITPs) under the Endangered Species Act of 1973, as amended (Act). Jellyfish Realty, LLC requests a 5-year ITP; and Vulcan Materials Company requests a 20-year ITP. We request public comment on the permit applications and accompanying proposed habitat conservation plans (HCPs), as well as on our preliminary determination that the plans qualify as low-effect under the National Environmental Policy Act (NEPA). To make this determination, we used our environmental action statement and low-effect screening form, which are also available for review.

DATES: To ensure consideration, please send your written comments by January 15, 2016.

ADDRESSES: If you wish to review the applications and HCPs, you may request documents by email, U.S. mail, or phone (see below). These documents are also available for public inspection by appointment during normal business hours at the office below. Send your comments or requests by any one of the following methods.

Email: northflorida@fws.gov. Use “Attn: Permit number TE82957B-0” as your message subject line for Jellyfish Realty, LLC; and “Attn: Permit number TE82956B-0” for Vulcan Materials Company.

Fax: Field Supervisor, (904) 731-3191, Attn: Permit number [Insert permit number].

U.S. mail: Field Supervisor, Jacksonville Ecological Services Field Office, Attn: Permit number [Insert permit number], U.S. Fish and Wildlife Service, 7915 Baymeadows Way, Suite 200, Jacksonville, FL 32256.

In-person drop-off: You may drop off information during regular business hours at the above office address.

FOR FURTHER INFORMATION CONTACT: Erin M. Gawera, telephone: (904) 731-3121; email: erin_gawera@fws.gov.

SUPPLEMENTARY INFORMATION:

Background

Section 9 of the Act (16 U.S.C. 1531 et seq.) and our implementing Federal regulations in the Code of Federal Regulations (CFR) at 50 CFR 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take—i.e., take that is incidental to, and not the purpose of, the carrying out of an otherwise lawful activity.

Regulations governing incidental take permits for threatened and endangered species are at 50 CFR 17.32 and 17.22, respectively. The Act's take prohibitions do not apply to federally listed plants on private lands unless such take would violate State law. In addition to meeting other criteria, an incidental take permit's proposed actions must not jeopardize the existence of federally listed fish, wildlife, or plants.

Applicants' Proposals

Jellyfish Realty, LLC

Jellyfish Realty, LLC is requesting take of approximately .53 acre of occupied Florida scrub-jay foraging and sheltering habitat incidental to construction of a veterinary clinic, and they seek a 5-year permit. The .54-acre project is located on parcel number 27-37-06-25-00104.0-0015.00 within Section 06, Township 27 South, Range 37 East, Brevard County, Florida. The project includes construction of a commercial development and the associated infrastructure, and landscaping. The applicant proposes to mitigate for the take of the Florida scrub-jay through the preservation of approximately 1.49 acres of high-quality Florida scrub-jay habitat within the Grissom Parkway Site of the Brevard Coastal Scrub Ecosystem. The applicant also will preserve and donate one currently unencumbered parcel (Brevard County tax parcel number 24-35-01-25-00001.0-0016.00) to the Brevard County Environmentally Endangered Lands (EEL) Program so that this parcel can be managed and maintained as suitable Florida scrub-jay habitat in perpetuity. The applicant will also provide the EEL Program with a $1,200/acre (totaling $ 1,788) management endowment to ensure the continued success of monitoring and maintaining these lands as suitable Florida scrub-jay habitat.

Vulcan Materials Company

Vulcan Materials Company proposes incremental mining of sand reserves throughout the 1,183.62-acre permitted mining limits of the approximately 6,815.79-acre project area over the life of the mine, and seeks a 20-year permit for take of occupied sand skink, eastern indigo snake, and gopher tortoise, foraging and sheltering habitat. The 6,815.79-acre project is located on Sections 12-13, Township 9 south, Range 23 east, Sections 7, 17-21, 28-33, Township 9 south, Range 24 east, and Sections 5-6, Township 10 south, Range 24 east, Putnam County, Florida. The extent of direct impacts in future phases is currently undetermined; however, based on the current USFWS guidelines, approximately 343.73 acres of the site appear to be suitable for the sand skink, the eastern indigo snake, and the gopher tortoise. Currently there will be take of 0.26 acre of occupied sand skink foraging and sheltering habitat on Phase IA which will be mitigated by the purchase of .52 mitigation credits within the Tiger Creek Conservation Bank. In advance of the progression of the mining operations into future phases, quantitative surveys will be conducted for the skinks, eastern indigo snakes, and gopher tortoises to determine the occupancy and extent of occupancy within suitable areas. The completion of these surveys will be subject to the Service's approved survey guidelines at the time the surveys are conducted. The applicant proposes to mitigate for impacts to occupied skink and eastern indigo snake habitat within future phases at a ratio of 2:1 by purchasing 2 mitigation bank credits at the Tiger Creek Conservation Bank per every 1 acre of impact. The applicant proposes to mitigate for impacts to occupied gopher tortoise habitat within Phase IA, as well as in future phases, by relocating gopher tortoises and any recovered eggs to a recipient site approved by the Florida Fish and Wildlife Conservation Commission.

Our Preliminary Determination

We have determined that the applicants' proposals, including the proposed mitigation and minimization measures, would have minor or negligible effects on the species covered in their HCPs. Therefore, we determined that the ITPs for each of the applicants are “low-effect” projects and qualify for categorical exclusion under the National Environmental Policy Act (NEPA), as provided by the Department of the Interior Manual (516 DM 2 Appendix 1 and 516 DM 6 Appendix 1). A low-effect HCP is one involving (1) Minor or negligible effects on federally listed or candidate species and their habitats, and (2) minor or negligible effects on other environmental values or resources.

Next Steps

We will evaluate the HCPs and comments we receive to determine whether the ITP applications meet the requirements of section 10(a) of the Act (16 U.S.C. 1531 et seq.). If we determine that the applications meet these requirements, we will issue ITP numbers TE82957B-0, and TE82956B-0. We will also evaluate whether issuance of the section 10(a)(1)(B) ITPs complies with section 7 of the Act by conducting an intra-Service section 7 consultation. We will use the results of this consultation, in combination with the above findings, in our final analysis to determine whether or not to issue the ITPs. If the requirements are met, we will issue the permits to the applicants.

Public Comments

If you wish to comment on the permit applications, HCPs, and associated documents, you may submit comments by any one of the methods in ADDRESSES.

Public Availability of Comments

Before including your address, phone number, email address, or other personal identifying information in your comments, you should be aware that your entire comment—including your personal identifying information—may be made publicly available at any time. While you can ask us in your comment to withhold your personal identifying information from public review, we cannot guarantee that we will be able to do so.

Authority

We provide this notice under Section 10 of the Act and NEPA regulations (40 CFR 1506.6).

Dated: December 10, 2015.
Jay B. Herrington,
Field Supervisor, Jacksonville Field Office, Southeast Region.

[FR Doc. 2015-31590 Filed 12-15-15; 8:45 am]

BILLING CODE 4333-15-P